DEPARTMENT OF VETERANS AFFAIRS

Privacy Act of 1974; System of Records

AGENCY: Department of Veterans Affairs (VA).

ACTION: Notice; correction.

SUMMARY: The Veterans Health Administration (VHA), Department of Veterans Affairs (VA), published a system of records notice in the Federal Register amending the system of records currently entitled “Non-VA Fee Basis Records—VA (23VA163), as set forth in 74 FR 44905-44911, August 31, 2009. VA amended the system by revising paragraphs for Systems Numbers, System Location, Categories of Individuals Covered by the System, Categories of Records in the System, Authority for Maintenance of the System; Purpose(s), Routine Uses or Record Maintained in the System, Including Categories of Users and the Purposes of Such Uses, System Managers(s) and Address; and Record Source Categories. In routine Use 27, we inadvertently omitted the words “in writing”. This document corrects that error.

FOR FURTHER INFORMATION CONTACT: Shonta Wright MBA, CIPP, CIPP/G, Information Access and Privacy Office, VHA Privacy Specialist, (727) 321-2038.

Correction

In FR Doc. E9-20917, published on August 31, 2009, at 74 FR 44905, make the following correction. On page 44909, in the third column, paragraph 27, in the third line after the words “verbally or”, add the words “in writing”.

Approved: March 8, 2010.
William F. Russo,
Director of Regulations Management.

[FR Doc. 2010-5386 Filed 3-11-10; 8:45 am]

BILLING CODE 8320-01-P